DEPARTMENT OF ENERGY

Federal Energy Regulatory Commission

[Docket No. IC21-3-000]

Commission Information Collection Activities; Request for Emergency Extension for FERC-725D

AGENCY: Federal Energy Regulatory Commission, DOE.

ACTION: Notice of request for an emergency extension.

SUMMARY: In compliance with the requirements of the Paperwork Reduction Act of 1995 (PRA), the Federal Energy Regulatory Commission (Commission or FERC) has solicited public comments on FERC-725D (Mandatory Reliability Standard: Facilities Design, Connections and Maintenance Reliability Standards). FERC submitted a request to the Office of Management and Budget (OMB) for a three-month emergency extension (to March 31, 2021) to ensure this information collection will remain active while FERC completes the pending PRA renewal process. No changes are being made to the reporting and recordkeeping requirements.

FOR FURTHER INFORMATION CONTACT: Ellen Brown may be reached by email at DataClearance@FERC.gov and telephone at (202) 502-8663.

SUPPLEMENTARY INFORMATION: The PRA renewal process for the information collection is ongoing. To ensure that OMB approval of the current information collection remains active during the PRA renewal process, FERC has submitted a request to OMB for a three-month emergency extension.

Title: FERC-725D, Mandatory Reliability Standard: Facilities Design, Connections and Maintenance Reliability Standards.

OMB Control No.: 1902-0247.

Docket No. for Ongoing PRA Renewal: IC21-3.

FERC submitted a formal request ¹ to OMB on December 10, 2020, for an emergency three-month extension to March 31, 2021.

¹ The letter (addressed to the Administrator of OIRA at OMB) requests a three-month emergency extension and was signed by the Acting General Counsel on 12/10/2020.

Dated: December 10, 2020.
Kimberly D. Bose,
Secretary.

[FR Doc. 2020-27657 Filed 12-15-20; 8:45 am]

BILLING CODE 6717-01-P